DEPARTMENT OF TRANSPORTATION

Federal Railroad Administration

[Docket Number FRA-2016-0101]

Notice of Application for Approval of Discontinuance or Modification of a Railroad Signal System

In accordance with Part 235 of Title 49 Code of Federal Regulations and 49 U.S.C. 20502(a), this document provides the public notice that by a document dated October 18, 2016, Red River Valley & Western Railroad Company (RRVW) petitioned the Federal Railroad Administration (FRA) seeking approval for the discontinuance or modification of a signal system. FRA assigned the petition Docket Number FRA-2016-0101.

Applicant: Red River Valley & Western Railroad Company, Ms. Cynthia Olson, Manager-Operations/Administration, 501 Minnesota Avenue, Breckenridge, MN 56520.

RRVW seeks approval to retire and remove two stop signs located on its Second Subdivision at Milepost (MP) 38.0 and MP 41.0 at Davenport, ND. When FRA conditionally approved abandonment of the automatic interlocking plant located at the Davenport junction (see Docket Number FRA-1999-5621) in November 1999, one of the conditions of approval required the installation of stop signs at all four quadrants of the RRVW's crossing at grade between the Second and Fourth Subdivisions. Four stop signs were installed at the four junction switches, located at MP 17.0 and MP 19.0, on the Fourth Subdivision and MPs 38.0 and 41.0 on the Second Subdivision.

The reason given for the proposed discontinuance is that RRVW experienced a change in traffic patterns in the last decade and a significant change this past year. The Second Subdivision mainline track has experienced a decline in traffic due to shuttle train traffic rerouting through a new turnout installed at Davenport that now handles a majority of these trains over the Fourth Subdivision instead of the Second Subdivision. Yard limits would remain in effect on both the Second and Fourth Subdivisions. Maximum authorized track speed for these restricted limits is 20 mph, being able to stop short within half the range of vision of the stop sign and other requirements listed by the General Code of Operating Rules 6.13 and 6.27. Maximum speed through the interlocking is 12 mph.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 5, 2017 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Robert C. Lauby,
Associate Administrator for Railroad Safety Chief Safety Officer.

[FR Doc. 2016-27954 Filed 11-18-16; 8:45 am]

BILLING CODE 4910-06-P